DEPARTMENT OF THE INTERIOR

National Park Service

[NPS-WASO-NAGPRA-NPS0036826; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice. The human remains were removed from Franklin, Hampden, and Hampshire Counties, MA.

DATES: Repatriation of the human remains in this notice may occur on or after November 24, 2023.

ADDRESSES: Patricia Capone, Peabody Museum of Archaeology and Ethnology, 11 Divinity Ave., Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Franklin County, MA

Human remains representing, at minimum, one individual were removed from Franklin County, MA. Sometime before August 23, 1858, Roswell Field removed the human remains from a field in Deerfield, Franklin County, MA, while it was being ploughed. Field donated the human remains to the Boston Society for Medical Improvement (BSMI) through Charles Pickering Bowditch on August 23, 1858. In 1889, the Harvard Medical School faculty voted to accept the cabinet of the BSMI and incorporated the human remains into the collection of the Warren Anatomical Museum, Harvard University (WAM). In 1956, the WAM transferred the human remains to the PMAE as a permanent loan. No associated funerary objects are present.

Human remains representing, at minimum, one individual were removed from Franklin County, MA. At an unknown date, Dr. D.D. Slade removed the human remains from an unknown site near Greenfield, in Franklin County, MA. The human remains were found in the PMAE uncatalogued and were accessioned in 1964. No associated funerary objects are present.

Hampden County, MA

Human remains representing, at minimum, one individual were removed from Hampden County, MA. In 1922, P.B. Moore removed the human remains from Springfield, in Hampden County, MA; Ruth Otis Sawtell donated the human remains to the PMAE that same year. No associated funerary objects are present.

Human remains representing, at minimum, two individuals were removed from Hampden County, MA. At an unknown date, Cecelia Guida removed the human remains from a burial ground in Westfield on the north bank of the Woronoco (Westfield) River, in Hampden County, MA. In 1951, the PMAE accessioned the human remains into the museum's collection. A preponderance of evidence suggests that this burial ground was within the Guida Farm site (19-HD-111), a Late Woodland to Contact Period site (A.D. 1000-1700). No associated funerary objects are present.

Human remains representing, at minimum, eight individuals were removed from Hampden County, MA. In 1882, B. Wilson Lord removed the human remains of, at minimum, five individuals from an “Indian Burial Place” (19-HD-153) on the bank of the Connecticut River in Longmeadow, Hampden County, MA. In May of 1883, Lord returned to the burial place with Frederic Ward Putnam as part of a Peabody Museum expedition directed by Putnam. Putnam removed the human remains of, at minimum, two individuals from the burial place at that time. Lord and Putnam presented the remains of all seven individuals to the Peabody Museum in May of 1883. In May of 1885, Lord returned again to the burial place, removed the human remains of, at minimum, one individual, and donated the human remains to the Peabody Museum that same month. Lord and Putnam collected lithics and ceramics from the area but did not describe them as coming from burials. The cultural items from the area tentatively date the site from the Late Archaic to Woodland Periods (B.C. 2000-A.D. 1500). No associated funerary objects are present.

Human remains representing, at minimum, two individuals were removed from Hampden County, MA. In the spring of 1885, B. Wilson Lord removed the human remains from the bank of the Connecticut River in Longmeadow, Hampden County, MA. Lord described the graves as having been uncovered by the river and noted the presence of ceramics in the vicinity of, but not in association with, the graves. Lord donated the human remains to the PMAE in May 1885. No associated funerary objects are present.

Human remains representing, at minimum, two individuals were removed from Hampden County, MA. At an unknown date, Dr. D.D. Slade removed the human remains from Chicopee, in Hampden County, MA. No associated funerary objects are present.

Hampshire County, MA

Human remains representing, at minimum, two individuals were removed from Hampshire County, MA. At an unknown date, an unknown person from the Peabody Museum of Salem (now the Peabody Essex Museum) removed the human remains from Hadley Falls, in Hampshire County, MA. The Peabody Museum of Salem donated the human remains to the PMAE through Ernest S. Dodge in 1950. No associated funerary objects are present.

Human remains representing, at minimum, one individual were removed from Hampshire County, MA. At an unknown date, Dr. Whitwell removed the human remains of one individual from South Hadley, in Hampshire County, MA, where excavations were being conducted for a large factory. Whitwell donated the human remains to the BSMI through Dr. Henry Jacob Bigelow on October 9, 1848. In 1889, the Harvard Medical School faculty voted to accept the cabinet of the BSMI and incorporated the human remains into the WAM's collection. In 1956, the WAM transferred the human remains to the PMAE as a permanent loan. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: The following types of information were used to reasonably trace the relationship: archeological, geographical, historical, kinship, linguistic, and oral traditional.

Determinations

Pursuant to NAGPRA and its implementing regulations, and after consultation with the appropriate Indian Tribes and Native Hawaiian organizations, the PMAE has determined that:

• The human remains described in this notice represent the physical remains of 20 individuals of Native American ancestry.

• There is a relationship of shared group identity that can be reasonably traced between the human remains described in this notice and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 24, 2023. If competing requests for repatriation are received, the PMAE must determine the most appropriate requestor prior to repatriation. Requests for joint repatriation of the human remains are considered a single request and not competing requests. The PMAE is responsible for sending a copy of this notice to the Indian Tribe identified in this notice.

Authority: Native American Graves Protection and Repatriation Act, 25 U.S.C. 3003, and the implementing regulations, 43 CFR 10.9, § 10.10, and § 10.14.

Dated: October 18, 2023.
Melanie O'Brien,
Manager, National NAGPRA Program.

[FR Doc. 2023-23555 Filed 10-24-23; 8:45 am]

BILLING CODE 4312-52-P